DEPARTMENT OF JUSTICE

Notice of Lodging of Proposed Settlement Order Under the Clean Water Act

On August 7, 2014, the Department of Justice lodged a proposed Stipulation and Order with the United States District Court for the District of Colorado in the lawsuit entitled United States v. Hunt Building Company, Ltd., Civil Action No. 1:14-cv-02202.

The proposed Stipulation and Order will resolve Clean Water Act claims alleged in this action by the United States against Hunt Building Company, Ltd. for failure to comply with the conditions of a permit issued pursuant to Section 402 of the Clean Water Act, and for violations of administrative orders issued by the U.S. Environmental Protection Agency pursuant to Section 309(a) of the Clean Water Act. Under the terms of the proposed Stipulation and Order, Defendant will pay a civil penalty in the amount of $310,000, plus interest.

The publication of this notice opens a period for public comment on the proposed Stipulation and Order. Comments should be addressed to the Assistant Attorney General, Environment and Natural Resources Division, and should refer to United States v. Hunt Building Company, Ltd., D.J. Ref. No.90-5-1-1-10123. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Stipulation and Order may be examined and downloaded at this Justice Department Web site: http://www.usdoj.gov/enrd/Consent_Decrees.html. We will provide a paper copy of the proposed Stipulation and Order upon written request and payment of reproduction costs. Please mail your request and payment to: Consent Decree Library, U.S. DOJ—ENRD, P.O. Box 7611, Washington, DC 20044-7611.

Please enclose a check or money order for $2.25 (25 cents per page reproduction cost) payable to the United States Treasury.

Robert Brook,
Assistant Section Chief, Environmental Enforcement Section, Environment and Natural Resources Division.

[FR Doc. 2014-19112 Filed 8-12-14; 8:45 am]

BILLING CODE 4410-15-P